OCCUPATIONAL SAFETY AND HEALTH REVIEW COMMISSION

Agency Information Collection Request

AGENCY: Occupational Safety and Health Review Commission.

ACTION: Notice; Submission for OMB Review; Comment Request.

SUMMARY: The Occupational Safety and Health Review Commission (OSHRC) submitted the following requirements to OMB for review and clearance under the Paperwork Reduction Act of 1965, Pub. L. 104-13. Interested persons may obtain copies of the submissions by calling the OSHRC Clearance Officer listed. Send comments regarding this information collection to the OMB reviewer listed and to the OSHRC Clearance Officer, Occupational Safety and Health Review Commission, 1120 20th Street, N.W., Ninth Floor, Washington, DC 20036-3419.

DATES: Submit written comments on or before May 18, 2000.

SUPPLEMENTARY INFORMATION: OMB Number: Not applicable, new submission.

Form Number: Not applicable.

Type of Review: Emergency—Approval requested by: 05/26/00.

Title: Evaluation of “Settlement Part” and Evaluation of “E-Z Trial”.

Description: Information collection is required to evaluate the Review Commission's “Settlement Part” process. The Review Commission is also collecting information from key stakeholders to evaluate the “E-Z-Trial” program.

Respondents: Employers and/or their representatives, labor organizations and staff of the Office of the Solicitor of Labor who have been involved in cases with the Review Commission.

Estimated Number of Responses: 80.

Estimated Burden Hours Per Response: 30 minutes.

Estimated Total Reporting Burden: 130 hours.

ADDRESSES: Ledia Esther Bernal, OSHRC Clearance Officer, 202-606-5390, Occupational Safety and Health Review Commission, 1120 20th Street, N.W., Ninth Floor, Washington, DC 20036-3419, Stuart Shapiro, OMB Reviewer, (202) 395-7857, Office of Management and Budget, Room 10202, New Executive Office Building, Washington, DC 20503.

Patricia A. Randle,
Executive Director.

[FR Doc. 00-11081 Filed 5-3-00; 8:45 am]

BILLING CODE 7600-01-P